DEPARTMENT OF HOUSING AND URBAN DEVELOPMENT

[Docket No. FR-7050-N-08; OMB Control No: 2535-0123]

30-Day Notice of Proposed Information Collection: Coronavirus Aid, Relief, and Economic Security (CARES) Act Reporting

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: April 1, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD is seeking approval from OMB for the information collection described in Section A.

The Federal Register notice that solicited public comment on the information collection for a period of 60 days was published on October 5, 2021 at 86 FR 54995.

A. Overview of Information Collection

Title of Information Collection: CARES Act Reporting Information Collection Request.

OMB Approval Number: 2535-0123.

Type of Request: Reinstatement with change of a previously approved collections.

Form Number: NA.

Description of the need for the information and proposed use:

OMB Control Numbers

• 2506-0133

• 2506-0089

• 2506-0077

Other Affected Forms and Systems

• HUD-40110-C

• HUD-40110-D

• Integrated Disbursement and Information System (IDIS)

• Sage HMIS Reporting Repository

The change to the existing ICRs and renewal of the CARES Act Reporting ICR will enable HUD to collect from recipients of large covered funds, which are defined as CARES Act grants that exceed $150,000 in the aggregate, the quarterly information required to be in compliance with the requirements outlined in Section 15011 of the CARES Act.

This will revise and renew existing OMB control numbers 2506-0133, 2506-0089, and 2506-0077, to help improve compliance with CARES Act requirements. This information will be reported by the grant recipients to the program offices within HUD, then aggregated with the related information already approved.

A new information collection request under OMB control number 2353-0123 is also being submitted that will allow the collection of grant recipient reporting information through a reporting portal. This portal is in development, and upon completion will enable certain HUD programs to collect information in line with CARES Act requirements.

Information collection | Number of respondents | Frequency of response | Responses per annum | Burden hour per response | Annual burden hours | Hourly cost per response | Annual cost
CDBG | 1,209 | 4 | 4,836 | 78.5 | 379,626 | 35.16 | $13,347,650.16
ESG | 2,360 | 4 | 9,440 | 12.75 | 120,360 | 39.96 | 4,809,585.60
HOPWA (HUD-40110-C) | 128 | 4 | 512 | 41 | 20,992 | 25.35 | 532,147.20
HOPWA (HUD-40110-D) | 116 | 4 | 464 | 55 | 25,520 | 25.35 | 646,932.00
IHBG | 792 | 4 | 3,168 | 1 | 3,168 | 25 | 79,200.00
TBRA/Op Fund | 1,230 | 4 | 4,920 | 2 | 9,840 | 35.16 | 345,974.40
Total | 5,835 | 4 | 23,340 |  | 559,506 |  | 19,761,489.36

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2022-04320 Filed 3-1-22; 8:45 am]

BILLING CODE 4210-67-P